FEDERAL MARITIME COMMISSION

Security for the Protection of the Public; Financial Responsibility To Meet Liability Incurred for Death or Injury to Passengers or Other Persons on Voyages; Notice of Issuance of Certificate (Casualty)

Notice is hereby given that the following have been issued a Certificate of Financial Responsibility to Meet Liability Incurred for Death or Injury to Passengers or Other Persons on Voyages pursuant to the provisions of Section 2, Pub. L. 89-777 (46 App. U.S.C. 817(d)) and the Federal Maritime Commission's implementing regulations at 46 CFR part 540, as amended:

American West Steamboat Company LLC and EN Boat LLC, 2101 Fourth Avenue, Tampa, FL 33605, Vessel: Empress of the North.

Carnival Corporation, 3655 NW. 87th Avenue, Miami, FL 33178-2193, Vessel: Carnival Glory.

Costa Crociere S.p.A. and Costa Cruise Lines N.V., Venture Corporate Center II, 200 S. Park Road, Suite 200, Hollywood, FL 33021-8541, Vessel: Costa Mediterranea.

Crystal Cruises, Inc., Crystal Ship Three (Bahamas) Limited and Serenity Maritima Shipholding Limited (Bahamas), 2049 Century Park East, Suite 1400, Los Angeles, CA 90067, Vessel: Crystal Serenity.

Cunard Line Limited and Saga Shipping Company Ltd., 6100 Blue Lagoon Drive, Suite 400, Miami, FL 33126, Vessel: Caronia.

Holland America Line Inc., Holland America Line N.V., and HAL Antillen N.V., 300 Elliott Avenue West, Seattle, WA 98119, Vessel: Oosterdam.

Imperial Majesty Cruise Line, L.L.C. and Celebration World Cruises, Inc., 2950 Gateway Drive Suite 200, Pompano Beach, FL 33069, Vessel: Regal Empress.

Lake Michigan Trans-Lake Shortcut, Inc. (d/b/a Lake Michigan Car Ferry Service, Inc. and Lake Michigan Carferry), P.O. Box 708, 701 Maritime Drive, Ludington, MI 49431, Vessel: Badger.

Magic Cruise Line Services Co. (d/b/a Ocean Club Cruises and Ocean Club Cruise Line) and Alberta Trading Co., 405-A Atlantis Road, Cape Canaveral, FL 32920, Vessel: Mirage 1.

Norwegian Cruise Line Limited and Norwegian Sun Limited, 7665 Corporate Center Drive, Miami, FL 33126, Vessel: Norwegian Sun.

P & O Princess Cruises International Limited, Princess Cruise Lines, Ltd. and P & O Princess Cruises plc, Richmond House, Terminus Terrace, Southampton SO14 3PN, United Kingdom, Vessel: Adonia.

Princess Cruise Lines, Ltd. and P & O Princess Cruises International Limited, 24305 Town Center Drive, Santa Clarita, CA 91355-4999, Vessel: Regal Princess.

Princess Cruise Lines, Ltd., P & O Princess Cruises International Limited and Brittany Shipping Corporation, Ltd., 24305 Town Center Drive, Santa Clarita, CA 91355-4999, Vessels: Coral Princess and Island Princess.

Princess Cruise Lines, Ltd., P & O Princess Cruises International Limited and Copropriete du Navire R3, 24305 Town Center Drive, Santa Clarita, CA 91355-4999, Vessel: Pacific Princess.

Princess Cruise Lines, Ltd., P & O Princess Cruises International Limited and Corot Shipping Corporation (Sociedade Unipessoal) Lda., 24305 Town Center Drive, Santa Clarita, CA 91355-4999, Vessel: Sun Princess.

Princess Cruise Lines, Ltd., P & O Princess Cruises International Limited and Fairline Shipping Corporation, Ltd., 24305 Town Center Drive, Santa Clarita, CA 91355-4999, Vessel: Dawn Princess.

Princess Cruise Lines, Ltd., P & O Princess Cruises International Limited and Fairline Shipping International Corporation, Ltd., 24305 Town Center Drive, Santa Clarita, CA 91355-4999, Vessel: Grand Princess.

Princess Cruise Lines, Ltd., P & O Princess Cruises International Limited and GP2, Ltd., 24305 Town Center Drive, Santa Clarita, CA 91355-4999, Vessel: Golden Princess.

Princess Cruise Lines, Ltd., P & O Princess Cruises International Limited and GP3, Ltd., 24305 Town Center Drive, Santa Clarita, CA 91355-4999, Vessel: Star Princess.

Princess Cruise Lines, Ltd., P & O Princess Cruises International Limited, Princess Cruises (Shipowners) Ltd. and Princess Tours, Ltd., 24305 Town Center Drive, Santa Clarita, CA 91355-4999, Vessel: Royal Princess.

Pullmantur S.A. (d/b/a Pullmantur Cruises), Pullmantur Shipping Ltd. (d/b/a Trident Corporate Services) and Seahawk North America LLC, Orense, 16, 28020 Madrid, Spain, Vessel: Pacific.

Radisson Seven Seas Cruises, Inc., Supplystill Limited and Seadance Limited, 600 Corporate Drive, Suite 410, Fort Lauderdale, FL 33334, Vessel: Seven Seas Voyager.

Royal Caribbean Cruises Ltd. (d/b/a Royal Caribbean International) and Serenade of the Seas, Inc., 1050 Caribbean Way, Miami, FL 33132-2096, Vessel: Serenade of the Seas.

Scotia Prince Cruises Limited, Prince of Fundy Cruises Ltd., Transworld Steamship Company (Panama) Inc. and International Shipping Partners, Inc., P.O. Box 4216, 468 Commercial Street, Portland, ME 04101-0416, Vessel: Scotia Prince.

Silversea Cruises Ltd. and Silver Cloud Shipping Co. Ltd., 110 East Broward Boulevard, Fort Lauderdale, FL 33301, Vessel: Silver Cloud.

Silversea Cruises Ltd. and Silver Wind Shipping Ltd., 110 East Broward Boulevard, Fort Lauderdale, FL 33301, Vessel: Silver Wind.

Dated: September 12, 2003.
Bryant L. VanBrakle,
Secretary.

[FR Doc. 03-23788 Filed 9-17-03; 8:45 am]

BILLING CODE 6730-01-P